INTERNATIONAL TRADE COMMISSION

[Investigation No. 337-TA-1442]

Certain Glow Fish Tape Systems, Safety Helmet Systems, and Components Thereof; Notice of a Commission Determination Not To Review an Initial Determination Granting Complainant's Motion for Leave To Amend the Complaint and Notice of Investigation

AGENCY: U.S. International Trade Commission.

ACTION: Notice.

SUMMARY: Notice is hereby given that the U.S. International Trade Commission (“Commission”) has determined not to review an initial determination (“ID”) (Order No. 6) of the presiding Chief Administrative Law Judge (“CALJ”), granting Complainant's motion for leave to amend the Complaint and Notice of Investigation to add allegations of infringement of claims 1-4 of U.S. Patent No. 12,268,265 (“the '265 patent”).

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 19, 2025, based on a complaint filed by Klein Tools, Inc., of Lincolnshire, IL. 90 FR 12790 (Mar. 19, 2025). The complaint, as supplemented, alleges violations of section 337 of the Tariff Act of 1930, as amended, 19 U.S.C. 1337, in the importation into the United States, the sale for importation, or the sale within the United States after importation of certain glow fish tape systems, safety helmet systems, and components thereof by reason of the infringement of certain claims of U.S. Patent Nos. 11,452,327; U.S. Patent No. 11,713,209; and U.S. Patent No. 12,187,573. Id. The complaint further alleges that a domestic industry exists. Id. The Commission's notice of investigation named as respondent Milwaukee Electric Tool Corporation, of Brookfield, WI (“Respondent”). Id. The Office of Unfair Import Investigations is not participating in the investigation. Id.

On May 1, 2025, the CALJ issued Order No. 6, granting Complainant's motion for leave to amend the complaint and notice of investigation to add allegations of infringement of claims 1-4 of the '265 patent against Respondent. No petitions for review of the ID were filed.

The Commission has determined not to review the subject ID. The Notice of Investigation is amended to include allegations of infringement of claims 1-4 of the '265 patent against Respondent.

The Commission vote for this determination took place on May 30, 2025.

The authority for the Commission's determination is contained in section 337 of the Tariff Act of 1930, as amended (19 U.S.C. 1337), and in Part 210 of the Commission's Rules of Practice and Procedure (19 CFR part 210).

By order of the Commission.
Issued: May 30, 2025.
Lisa Barton,
Secretary to the Commission.

[FR Doc. 2025-10225 Filed 6-4-25; 8:45 am]

BILLING CODE 7020-02-P